DEPARTMENT OF HOMELAND SECURITY

Coast Guard

33 CFR Part 100

[Docket No. USCG-2025-0648]

Special Local Regulation; Olympia Harbor Days Tugboat Races, Budd Inlet, WA

AGENCY: Coast Guard, DHS.

ACTION: Notification of enforcement of regulation.

SUMMARY: The Coast Guard will enforce a special local regulation for the Olympia Harbor Days Tugboat Races from 10 a.m. until 5 p.m. on August 31, 2025, to ensure the safety of life on the navigable waters of Budd Inlet during the event. During the enforcement period, entry into the regulated area is prohibited without permission from the Patrol Commander or any Official Patrol displaying a Coast Guard ensign.

DATES: The regulations in 33 CFR 100.1309 will be enforced from 10 a.m. until 5 p.m. on August 31, 2025.

FOR FURTHER INFORMATION CONTACT: If you have questions about this notification of enforcement, call or email Lieutenant Anthony Pinto, Waterways Management Division, U.S. Coast Guard Sector Puget Sound; telephone 206-217-6051, email SectorPugetSoundWWM@uscg.mil.

SUPPLEMENTARY INFORMATION: The Coast Guard will enforce special local regulations in 33 CFR 100.1309 for the Olympia Harbor Days Tugboat Races in Budd Inlet, WA, from 10 a.m. until 5 p.m. on August 31, 2025. This action is necessary to ensure the safety of life on the navigable waterways of Budd Inlet during this event. Our regulation for the marine events within the Northwest District, § 100.1309(a), specifies the location of the regulated area for the Olympia Harbor Days Tugboat Races, which encompasses approximately two (2) nautical miles of the navigable waters in Budd Inlet, WA. During the enforcement period, as specified in § 100.1309(c), all persons or vessels who desire to enter the regulated race area while it is enforced must obtain permission from the on-scene patrol craft on VHF Ch 13.

In addition to this notice of enforcement in the Federal Register, the Coast Guard plans to provide notification of this enforcement period via the Local Notice to Mariners, marine information broadcasts, local radio stations and area newspapers. If the Captain of the Port determines that the regulated area does not need to be enforced for the full duration stated in this notice, a Broadcast Notice to Mariners will be issued granting general permission to enter the regulated area.

Dated: July 23, 2025.
Mark A. McDonnell,
Captain, U.S. Coast Guard, Commander, Sector Puget Sound.

[FR Doc. 2025-14296 Filed 7-28-25; 8:45 am]

BILLING CODE 9110-04-P